DEPARTMENT OF TRANSPORTATION

Surface Transportation Board

[STB Finance Docket No. 34316]

The Burlington Northern and Santa Fe Railway Company-Trackage Rights Exemption-Union Pacific Railroad Company

Union Pacific Railroad Company (UP) has agreed to grant overhead trackage rights to The Burlington Northern and Santa Fe Railway Company (BNSF) over UP's Port Lavaca Subdivision extending from milepost 14.2 in Placedo, TX, to milepost 6.95 in Kamey, TX, a distance of approximately 7.25 miles. The purpose of the trackage rights is to allow BNSF access to the rail line it is constructing between Kamey and Seadrift, TX.¹ In addition, UP has agreed to grant BNSF temporary trackage rights ² on UP's Port Lavaca Subdivision from UP milepost 15.4 to UP milepost 14.2 and from UP milepost 6.0 to UP milepost 6.95.

¹ BSNF was granted authority to construct and operate this railroad line in The Burlington Northern and Santa Fe Railway Company-Construction and Operation Exemption-Seadrift and Kamey, TX, STB Finance Docket No. 34003 (STB served Jan. 25, 2002).

² On February 28, 2003, BNSF filed a petition for exemption in STB Finance Docket No. 34316 (Sub-No. 1), The Burlington Northern and Santa Fe Railway Company—Trackage Rights Exemption-Union Pacific Railroad Company, wherein BNSF requests that the Board permit the proposed temporary trackage rights arrangement described in this notice to expire upon completion of the construction of its rail line. That petition will be addressed by the Board in a separate decision.

The transaction is scheduled to be consummated on or after February 27, 2003, the effective date of the exemption (7 days after the notice was filed).

As a condition to this exemption, any employees affected by the trackage rights will be protected by the conditions imposed in Norfolk and Western Ry. Co.-Trackage Rights-BN, 354 I.C.C. 605 (1978), as modified in Mendocino Coast Ry., Inc.-Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket

No. 34316, must be filed with the Surface Transportation Board, 1925 K Street NW., Washington, DC 20423-0001. In addition, one copy of each pleading must be served on Sarah W. Bailiff, Senior General Attorney, The Burlington Northern and Santa Fe Railway Company, P.O. Box 961039, Fort Worth, TX 76161-0039.

Board decisions and notices are available on our Web site at http://www.stb.dot.gov.

Decided: March 6, 2003.
By the Board, David M. Konschnik, Director, Office of Proceedings.
Vernon A. Williams,
Secretary.

[FR Doc. 03-5893 Filed 3-11-03; 8:45 am]

BILLING CODE 4915-00-P